DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before June 26, 2023.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on May 10, 2023.
Donald P. Burger,
Chief, General Approvals and Permits Branch.

Special Permits Data
Application No. | Applicant | Regulation(s) affected | Nature of the special permits thereof
21547-N | Mazda Motor of America, Inc | 172.101(j) | To authorize the transportation in commerce of lithium ion batteries exceeding 35 kg net weight aboard cargo-only aircraft. (mode 4).
21549-N | Repligen Corporation | 173.222(c)(2)(ii) | To authorize the transportation in commerce of dangerous goods in apparatus containing a total net quantity of liquid hazardous material exceeding 0.5 L aboard aircraft. (modes 4, 5).
21551-N | Bollore Logistics Germany Gmbh | 172.101(j), 172.300, 172,400, 173.185(a)(1), 173.185(b), 173.301(f), 173.302a(a)(1) | To authorize the transportation in commerce of certain non-DOT specification containers containing certain Division 2.2 and 2.3 liquefied and compressed gases for use in specialty cooling applications such as satellites and military aircraft. (modes 1, 3, 4).
21553-N | Pacific Scientific Energetic Materials Company (California) LLC | 173.21(b), 173.51(a), 173.54, 173.54(a), 173.56(b) | To authorize the transportation in commerce of unapproved explosives originating at Pacific Scientific Energetic Materials Company LLC, and transported to Clean Harbors Waste Facility in Colfax, LA for final disposal by dedicated motor transport vehicle only. (mode 1).
21555-N | Hach Company | 172.301(c), 172.315 | To authorize the transportation in commerce of certain Division 5.1, Class 8, and Class 9 materials between Hach Company facilities without having to apply the limited quantity marking each individual package when consolidated into an overpack displaying the limited quantity mark. (mode 1).
21560-N | Osram Sylvania Inc | 173.436 | To authorize the transportation in commerce of lamps containing Class 7 materials with activity limits exceeding those specified in 49 CFR 173.436, as excepted packages. (modes 1, 4, 5).
21561-N | Xtracan Gmbh | 173.306(a)(3) | To authorize the manufacture, mark, sale and use of a non-DOT specification can that conforms to all regulations applicable to the DOT-2Q container, except for wall thickness; and which is used for the transportation in commerce of certain Division 2.1 and 2.2 aerosols. (modes 1, 2, 3, 4, 5).
21567-N | Spaceflight, Inc | 173.185(a)(1), 173.185(b)(5) | To authorize the transportation in commerce of prototype lithium batteries integrated into a shipping container intended to transport spacecraft. (modes 1, 3, 4).
21568-N | Sodastream USA, Inc | 180.209 | To authorize the transportation in commerce of DOT 3AL, TC/3ALM and UN ISO 7866 specification cylinders that are not subject to the volumetric expansion test requalification requirements. (modes 1, 2, 3).
21569-N | National Air Cargo Group, Inc | 172.204(c)(3), 172.101(j), 173.27(b)(2), 173.27(b)(3), 175.30(a)(1) | To authorize the transportation in commerce of certain Class 1 and Division 2.3 materials that are forbidden for transport via cargo-only aircraft by cargo-only aircraft. (mode 4).

[FR Doc. 2023-11300 Filed 5-25-23; 8:45 am]

BILLING CODE P